ENVIRONMENTAL PROTECTION AGENCY

[FRL-7557-7]

Science Advisory Board Staff Office; Notification of Public Advisory Committee Meeting; Executive Committee

AGENCY: Environmental Protection Agency (EPA).

ACTION: Notice.

SUMMARY: The Environmental Protection Agency Science Advisory Board (SAB) Executive Committee (EC), a Federal Advisory Committee, will hold a public meeting on the date and time given below to review a report from an SAB Subcommittee and to complete its planning activities for the SAB FY2004 Operating Plan.

DATES: The meeting will take place on Wednesday and Thursday, October 1-2, 2003, beginning 9 a.m. on October 1 and adjourning no later than 12 noon on October 2 (eastern time). Requests for oral comments, as well as submission of written comments must be received by September 23, 2003. Please see further details below.

ADDRESSES: The meeting will be held in Washington, DC. The specific location will be posted on the SAB Web site at www.epa.gov/sab/whatsnew.htm approximately ten days prior to the meeting.

FOR FURTHER INFORMATION CONTACT: Any member of the public wishing further information concerning this meeting or wishing to present oral comments must contact Mr. Thomas O. Miller, Designated Federal Officer, EPA Science Advisory Board (1400A), U.S. Environmental Protection Agency, 1200 Pennsylvania Avenue, NW., Washington, DC 20460; telephone (202) 564-4558; Fax (202) 501-0582; or via e-mail at miller.tom@epa.gov.

SUPPLEMENTARY INFORMATION: Summary: Pursuant to the Federal Advisory Committee Act, Public Law 92-463, notice is hereby given that the EC of the U.S. EPA Science Advisory Board (SAB) will hold a public meeting to discuss the following topics:

(a) Review a Report Prepared by an SAB Subcommittee—The Executive Committee will review a report entitled Supplemental Guidance for Assessing Cancer Susceptibility from Early-Life Exposure to Carcinogens: An EPA Peer Review Report. This report was prepared by the SAB EC's ad hoc panel, the Supplemental Guidance for Assessing Susceptibility from Early-Life Review Panel (SGACSRP).

(b) SAB Operating Plan for FY2004—The Board will complete its planning for its FY2004 activities that will include an Annual Meeting, proposed projects submitted by Agency offices and regions, and two original studies proposed by the SAB. These projects are all being considered for inclusion in the SAB's FY2004 Operating Plan (see below for availability of these project summaries). Special emphasis will be given on planning the scientific themes that will be the focus of the Board's Annual Meeting that is scheduled to take place from December 10-12, 2003, and in preparing for the Board's annual review of the EPA Science and Technology budget.

A meeting agenda will be posted on the SAB Web site (www.epa.gov/sab/whatsnew.htm) prior to the meeting. Any additional topics developed for this meeting will be reflected in the agenda.

The SAB was established by 42 U.S.C. 4365 to provide independent scientific and technical advice, consultation, and recommendations to the EPA Administrator on the technical basis for Agency positions and regulations. General information about the EPA Science Advisory Board, may be found on the SAB Web site (http://www.epa.gov/sab).

Requests for Comment: Requests for oral comments must be in writing (e-mail, fax or mail) and received by Mr. Miller no later than noon Eastern Standard Time on September 24, 2003. Written comments should also be sent to Mr. Miller no later than noon Eastern Standard Time on September 24, 2003. Submission of written comments by e-mail to Mr. Miller will maximize the time available for review by the EC.

Availability of Review Materials: All preliminary meeting materials will be posted on the SAB Web site at http://www.epa.gov/sab/whatsnew.htm prior to the meeting.

General Guidance on Providing Oral or Written Comments at SAB Meetings: It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated above). For teleconference meetings, opportunities for oral comment will usually be limited to no more than three minutes per speaker and no more than fifteen minutes total. Deadlines for being included on the public speaker list for a meeting are given above. Speakers should bring at least 35 copies of their comments and presentation slides for distribution to the reviewers and public at the face-to-face meetings. Written Comments: Although the SAB accepts written comments until the date of the meeting (unless otherwise stated), written comments should be received in the SAB Staff Office at least one week prior to the meeting date so that the comments may be made available to the committee for their consideration. Comments should be supplied to Mr. Miller at the address/contact information noted above in the following formats: one hard copy with original signature, and one electronic copy via e-mail (acceptable file format: WordPerfect, Word, or Rich Text files (in IBM-PC/Windows 95/98 format). Those providing written comments and who attend face-to-face meeting are also asked to bring 35 copies of their comments for public distribution.

Meeting Access—Individuals requiring special accommodation at this meeting, including wheelchair access to the conference room, should contact Mr. Miller at least five business days prior to the meeting so that appropriate arrangements can be made.

Dated: September 8, 2003.
Vanessa T. Vu,
Director, EPA Science Advisory Board Staff Office.

[FR Doc. 03-23264 Filed 9-11-03; 8:45 am]

BILLING CODE 6560-50-P